DEPARTMENT OF THE INTERIOR

U.S. Geological Survey

[GX13CD00B951000]

Agency Information Collection Activities: State Water Resources Research Institute Program Annual Application and Reporting

AGENCY: U.S. Geological Survey (USGS), Interior.

ACTION: Notice of an extension of currently approved information Collection, 1028-0097.

SUMMARY: To comply with the Paperwork Reduction Act of 1995 (PRA), the U.S. Geological Survey (USGS) is inviting comments on an information collection request (ICR) that we have sent to the Office of Management and Budget (OMB) for review and approval. The ICR concerns the paperwork requirements for the National Institutes for Water Resources (NIWR) USGS Competitive Grant Program. As required by the Paperwork Reduction Act (PRA) of 1995, and as part of our continuing efforts to reduce paperwork and respondent burden, we invite the general public and other Federal agencies to take this opportunity to comment on this ICR. This collection is scheduled to expire on July 31, 2013.

DATES: Submit written comments by September 3, 2013.

ADDRESSES: Please submit written comments on this information collection directly to the Office of Management and Budget (OMB), Office of Information and Regulatory Affairs, Attention: Desk Officer for the Department of the Interior via email: (OIRA_SUBMISSION@omb.eop.gov); or by fax (202) 395-5806; and identify your submission with OMB Control Number 1028-0097. Please also submit a copy of your comments to Information Collection Clearance Officer, U.S. Geological Survey, 12201 Sunrise Valley Drive, MS 807 National Center, Reston, VA 20192 (mail); dgovoni@usgs.gov (email); or (703) 648-7195 (fax). Please reference Information Collection 1028-0097.

For Further Information Please Contact: Earl Greene by mail at U. S. Geological Survey, 5522 Research Park Drive, 436, Baltimore, MD 21228, email: eagreene@usgs.gov. You may also find information about this ICR at www.reginfo.gov.

SUPPLEMENTARY INFORMATION:

Title: State Water Resources Research Institute Program Annual Application and Reporting.

OMB Control Number: 1028-0097.

Type of Request: Notice of an extension of a currently approved information collection.

Respondent Obligation: Required to obtain or retain benefits.

Abstract

The Water Resources Research Act of 1984, as amended (42 U.S.C. 10301 et seq.), authorizes a water resources research institute or center in each of the 50 states, the District of Columbia, Puerto Rico, the U.S. Virgin Islands, Guam, the Federated States of Micronesia, the Commonwealth of the Northern Marina Islands, and American Samoa. There are currently 54 such institutes, one in each state, the District of Columbia, Puerto Rico, the U.S. Virgin Islands, and Guam. The institute in Guam is a regional institute serving Guam, the Federated States of Micronesia, and the Commonwealth of the Northern Mariana Islands. Each of the 54 institutes submits an annual application for an allotment grant and provides an annual report on its activities under the grant. The State Water Resources Research Institute Program issues an annual call for applications from the institutes to support plans to promote research, training, information dissemination, and other activities meeting the needs of the States and Nation. The program also encourages regional cooperation among institutes in research into areas of water management, development, and conservation that have a regional or national character.

The U.S. Geological Survey has been designated as the administrator of the provisions of the Act.

Frequency of Collection: Annually.

Estimated Number and Description of Respondents: We expect to receive 54 applications and 54 annual reports.

Estimated Annual Responses: 108.

Estimated Annual Burden Hours: 8,640 (including 100 hours per application and 60 hours per report).

Estimated Reporting and Recordkeeping “Non-Hour Cost” Burden: There is no non-hour cost burden associated with this collection of information.

Public Disclosure Statement: The PRA (44 U.S.C. 3501, et seq.) provides that an agency may not conduct or sponsor and you are not required to respond to a collection of information unless it displays a currently valid OMB control number.

Comments: To comply with the public consultation process, on April 18, 2013, we published a Federal Register notice (78 FR 2422) announcing that we would submit this ICR to OMB for approval. The notice provided the required 60-day public comment period, which ended June 19, 2013. We did not receive any comments in response to that notice. We again invite comments concerning this information collection on: (a) Whether the proposed collection of information is necessary for the agency to perform its duties, including whether the information is useful; (b) the accuracy of the agency's estimate of the burden of the proposed collection of information; (c) how to enhance the quality, usefulness, and clarity of the information to be collected; and (d) how to minimize the burden on the respondents, including the use of automated collection techniques or other forms of information technology.

Please note that the comments submitted in response to this notice are a matter of public record. Before including your address, phone number, email address, or other personal identifying information in your comment, you should be aware that your entire comment, including your personal identifying information, may be made publicly available at any time. While you can ask OMB in your comment to withhold your personal identifying information from public review, we cannot guarantee that it will be done.

Dated: July 26, 2013.
Earl A. Greene,
Acting, Water Resources Research Act Program Coordinator.

[FR Doc. 2013-18427 Filed 7-31-13; 8:45 am]

BILLING CODE 4311-AM-P